DEPARTMENT OF AGRICULTURE

Agricultural Marketing Service

[Docket No. FV02-376]

Fruit and Vegetable Industry Advisory Committee; Meeting

AGENCY: Agricultural Marketing Service, USDA.

ACTION: Notice of public meeting.

SUMMARY: The purpose of this notice is to notify all interested parties that the Agricultural Marketing Service (AMS) will hold a Fruit and Vegetable Industry Advisory Committee (Committee) meeting that is open to the public to attend. The U.S. Department of Agriculture (USDA) established the Committee to examine the full spectrum of issues faced by the fruit and vegetable industry and provide suggestions and ideas to the Secretary of Agriculture on how USDA can tailor its programs to meet the fruit and vegetable industry's needs. This notice sets forth the schedule and location for the meeting.

DATES: The Committee meeting which is open to the public will be held on Tuesday, April 16, 2002, from 8 a.m. to 5 p.m. and Wednesday, April 17, 2002, from 8 a.m. to 1 p.m.

ADDRESSES: The Committee meeting will be held at the South Building, Room 3501, United States Department of Agriculture, 1400 Independence Avenue SW., Washington, DC 20250.

FOR FURTHER INFORMATION CONTACT: Robert C. Keeney, Deputy Administrator, Fruit and Vegetable Programs, AMS, USDA, Room 2077 South Building, P.O. Box 96456, Washington, DC 20090-6456, (202) 720-4722, e-mail—robert.keeney@usda.gov.

SUPPLEMENTARY INFORMATION: Pursuant to the Federal Advisory Committee Act (FACA) (5 U.S.C. App.), the Secretary of Agriculture established the Fruit and Vegetable Industry Advisory Committee to examine the full spectrum of issues faced by the fruit and vegetable industry and to provide suggestions and ideas to the USDA on tailoring its programs to meet the fruit and vegetable industry's needs.

At the April 16-17, 2002, meeting announced in this document, the members of the Committee will elect the Chairperson and Vice-Chairperson of the Committee who will serve for a 2-year term. The committee will seek input from parties particularly interested in fruit and vegetable programs regarding the full spectrum of issues faced by the fruit and vegetable industry including: improvement of service to the fruit and vegetable industry; improvement of fruit and vegetable programs delivery; and other input regarding the tailoring of USDA programs to meet industry needs. Therefore, AMS, is giving notice of the committee meeting to the public to attend.

Those parties that wish to attend the meeting should register on or before April 9, 2002, since space is limited. To register please e-mail Robert.Keeney@usda.gov or send a fax to 202-720-0016. Registrants should include their name, address, and daytime telephone number.

Upon entering the South Building, visitors should inform security personnel that they are attending the FVIAC Committee Meeting. Identification will be required to be admitted to the building. Security personnel will direct visitors to a registration log that will need to be signed on entrance into the building. All visitors must be registered with AMS in advance of the meeting.

If you require special accommodations, such as a sign language interpreter, please contact the person listed under FOR FURTHER INFORMATION CONTACT. The meeting will be recorded, and information about obtaining a transcript will be provided at the meeting.

Dated: March 19, 2002.
A.J. Yates,
Administrator, Agricultural Marketing Service.

[FR Doc. 02-7108 Filed 3-22-02; 8:45 am]

BILLING CODE 3410-02-P